DEPARTMENT OF TRANSPORTATION

Federal Aviation Administration

[Docket No. 30109]

Aviation Noise Abatement Policy 2000

AGENCY: Federal Aviation Administration, DOT.

ACTION: Notice, extend comment period.

SUMMARY: This notice is announcing an extension to the comment period on a recent notice regarding the proposed policy document, Aviation Noise Abatement Policy 2000. The recent notice was published in the Federal Register on July 14, 2000 with a comment period ending August 28, 2000. This notice extends that comment period.

DATES: Comments must be received on or before October 23, 2000.

ADDRESSES: Comments should be mailed in triplicate to: Federal Aviation Administration (FAA), Office of the Chief Counsel, Attention: Rules Docket (AGC-200), Docket No. 30109, 800 Independence Avenue, SW., Washington, DC 20591. Comments may be examined in the Rules Docket in Room 915G on weekdays between 8:30 a.m. and 5:00 p.m., except on Federal holidays.

FOR FURTHER INFORMATION CONTACT: Thomas L. Connor, Noise Division, AEE-100, Office of Environment and Energy, Federal Aviation Administration, 800 Independence Avenue, SW., Washington, DC 20591; telephone (202) 267-8933; facsimile, (202) 267-5594.

SUPPLEMENTARY INFORMATION:

Comments Invited

On July 14, the FAA published a notice in the Federal Register (65 FR 43802) requesting comments on the proposed policy document, Aviation Noise Abatement Policy 2000. This proposed FAA policy document reaffirms and incorporates the major tenets of the 1976 Aviation Noise Abatement Policy and includes subsequent developments. Several commenters requested additional time to respond to this policy, so the FAA is extending the opportunity for pubic comment from August 28 to October 23. This extension allows for a total comment period of 101 days so that interested persons can have sufficient time to express their concerns and contribute their suggestions to the policy.

Issued in Washington, DC, on August 18, 2000.
Paul R. Dykeman,
Deputy Director of Environment and Energy.

[FR Doc. 00-21638 Filed 8-23-00; 8:45 am]

BILLING CODE 4910-13-M